NATIONAL ARCHIVES AND RECORDS ADMINISTRATION

[NARA-2016-047]

Records Management; General Records Schedule (GRS); GRS Transmittal 26

AGENCY: National Archives and Records Administration (NARA).

ACTION: Notice of new General Records Schedule (GRS) Transmittal 26.

SUMMARY: NARA is issuing a new set of General Records Schedules (GRS) via GRS Transmittal 26. The GRS provides mandatory disposition instructions for administrative records common to several or all Federal agencies. Transmittal 26 announces changes we have made to the GRS since we published Transmittals 24 and 25 in August and September 2015. We are concurrently disseminating Transmittal 26 (the memo and the accompanying records schedules and documents) directly to each agency's records management official and have also posted it on NARA's Web site.

DATES: This transmittal is effective the date it publishes in the Federal Register.

ADDRESSES: You can find this transmittal on NARA's Web site at http://www.archives.gov/records-mgmt/grs/. You can download the complete current GRS, in PDF format, from NARA's Web site at http://www.archives.gov/records-mgmt/grs.html.

FOR FURTHER INFORMATION CONTACT: For more information about this notice or to obtain paper copies of the GRS, contact Kimberly Keravuori, External Policy Program Manager, at regulation_comments@nara.gov, or by telephone at 301.837.3151.

You may contact NARA's GRS Team with general questions about the GRS at GRS_Team@nara.gov. Writing and maintaining the GRS is the GRS Team's responsibility. This team is part of Records Management Services in the National Records Management Program, Office of the Chief Records Officer at NARA.

Your agency's records officer may contact the NARA appraiser or records analyst with whom your agency normally works for support in carrying out this transmittal and the revised portions of the GRS. You may access a list of the appraisal and scheduling work group and regional contacts on our Web site at http://www.archives.gov/records-mgmt/appraisal/index.html.

SUPPLEMENTARY INFORMATION:

What does GRS Transmittal 26 do?

GRS Transmittal 26 announces changes to the General Records Schedules (GRS) made since NARA published GRS Transmittals 24 and 25 in August and September 2015. The GRS provide mandatory disposition instructions for records common to several or all Federal agencies.

We are completely rewriting the GRS over the course of a five-year project. Because we are phasing in the entire change from old to new gradually over five years, the GRS during this interim period will necessarily include both old and new formats. New schedules (in table format) come first in the new transmittal, followed by the old schedules (in outline format) annotated to show which items are still current and which have been superseded by new schedules. With GRS Transmittal 26, we have superseded 39 percent of the old GRS by new schedules.

Each transmittal also includes frequently asked questions (FAQs) about the GRS, the GRS Update Project, and each new schedule, as well as new-to-old crosswalks for each new schedule and an overall old-to-new crosswalk.

What changes does this transmittal make to the GRS?

GRS Transmittal 26 publishes one new schedule:

GRS 4.4 Library Records (DAA-GRS-2015-0003)

It also publishes new or updated items in four schedules:

GRS 1.1 Financial Management and Reporting Records (see question 3)

GRS 2.8 Employee Ethics Records (see question 4)

GRS 4.2 Information Access and Protection Records (see question 5)

GRS 6.1 Capstone Electronic Mail Records (see question 6)

We have altered GRS 1.2, items 020-022. The note and exclusion previously (and incorrectly) shown in the overview covering all three items now modifies only item 020.

How has GRS 1.1 changed? How might these changes affect my agency?

We have added five new items (012, 013, 060, 070, and 071), per DAA-GRS-2016-0001.

If you store records that fall under GRS 1.1, item 010, you should carefully review your stored holdings to determine if new item 012 correctly describes any of them. These potentially voluminous records are immediately disposable, so you may be able to save on storage fees or space.

The old-to-new crosswalk and GRS 1.1 crosswalk now show old GRS 3, item 3d (Data submitted to the Federal Procurement Data System), superseded by GRS 1.1, item 013 (Data submitted to the Federal Procurement Data System), rather than by GRS 1.1, item 010 (Financial transaction records related to procuring goods and services, paying bills, collecting debts, and accounting). Originally, GRS 3, item 3d, was among the many old schedule items folded into GRS 1.1, item 010. General Services Administration requested that we restore the stand-alone item because these records do not concern individual financial transactions, but monitor Government procurement process transparency and equity. New item 013 therefore covers the same records as old GRS 3, item 3d, but as a stand-alone item.

How has GRS 2.8 changed? How might these changes affect my agency?

We have changed item 010, General ethics program records, to clarify the disposition instruction. The previous wording may have confused agencies about how long to keep some ethics records; agencies may need to keep them for longer than the old schedule seemed to indicate. Agency ethics officials provide employees with ethics advice that may pertain to a single situation or event, or that may apply to a recurring event or long-term situation. In the case of a single situation or event, the ethics determination (the ethics advice and counseling to individual employees, and supporting records) for that event is usually in effect only for the duration of that event. However, in the case of a recurring or long-term situation, the ethics determination is usually in effect throughout the period during which the recurring or long-term events occur, which could be years. The revised instruction clarifies that agencies should retain records for six years after an ethics determination is no longer in effect, rather than six years from when the agency issues the determination. For example, if the ethics official provides advice for a single, isolated event, the agency should retain the determination records for six years after that event occurs. But if the ethics official provides advice for a long-term situation that lasts for 15 years, the agency should retain the determination records for 15+6 years. Similarly, if the determination involves ethics advice about a recurring action or event an employee engages in off and on during 12 years, the agency should retain the determination records for 12+6 years. Since agencies may need to provide these records in a criminal prosecution, you should carefully note the determination date, including how long it is in effect, to ensure that the agency keeps the information available for six years after the ethics determination no longer applies.

How has GRS 4.2 changed? How might these changes affect my agency?

An exclusion formerly in item 020, Access and disclosure request files (“Record copies of requested records are not covered by this item. They remain covered by their original disposal authority”), has become a note (“Record copies of requested records remain covered by their original disposal authority, but if disposable sooner than their associated access/disclosure case file, may be retained under this item for disposition with that case file”). Records may acquire a new business purpose once they become the subject of a FOIA, Privacy Act, or Mandatory Declassification Review request. The previous exclusion text did not account for this new business purpose and thus could have led to offices destroying original records when their original retention period ended instead of when the new business purpose period ended. We have clarified the coverage for items 030, 032, and 040 to eliminate confusion reported by agencies.

Items 150, 160, 161, and 170 are new.

How has GRS 6.1 changed? How might these changes affect my agency?

We have altered permanent item 010's transfer date from 15 years to a 15-to-25-year band. FAQ 8 provides information about this change. In addition, we changed the cut-off for item 010 from the end of the calendar year to “In accordance with agency's business needs,” a change announced by AC 18.2016. FAQ 7 gives further information about this change. Finally, new FAQs 19 and 21-26 address how agencies may handle legacy email.

What old GRS items does GRS Transmittal 26 rescind?

Most old GRS items are, or will be, superseded by new GRS items. A few old items, however, have outlived their usefulness and cannot be crosswalked to new items. GRS Transmittal 26 rescinds two such items.

GRS 21, items 12 (Routine Scientific, Medical, or Engineering Footage) and 19 (Routine Scientific, Medical, or Engineering Video Recordings), have fallen out of use. These media-specific items cover very technical subject matter almost always created by research and development (R&D) functions. Federal Records Centers (FRCs) held records under these codes from only two agencies. The FRCs and the agencies agreed that we should reschedule these records under agency-specific authorities. The few agencies with such functions must therefore schedule the records their R&D programs create. These two items will not crosswalk to any anticipated future GRS item, so we are rescinding them.

How do I cite new GRS items?

When you send records to an FRC for storage, you should cite the records' legal authority—the “DAA” number—in the “Disposition Authority” column of the table. For informational purposes, please include schedule and item number. For example, “DAA-GRS-2013-0001-0004 (GRS 4.3, item 020).”

Do I have to take any action to implement these GRS changes?

NARA regulations (36 CFR 1226.12(a)) require agencies to disseminate GRS changes within six months of receipt.

Per 36 CFR 1227.12(a)(1), you must follow GRS dispositions that state they must be followed without exception.

Per 36 CFR 1227.12(a)(3), if you have an existing schedule that differs from a new GRS item that does not require being followed without exception, and you wish to continue using your agency-specific authority rather than the GRS authority, you must notify NARA within 120 days of the date of this transmittal.

If you do not have an already existing agency-specific authority but wish to apply a retention period that differs from that specified in the GRS, you must create a records schedule in the Electronic Records Archives and submit it to NARA for approval.

Dated: August 30, 2016.
David S. Ferriero,
Archivist of the United States.

[FR Doc. 2016-21361 Filed 9-6-16; 8:45 am]

BILLING CODE 7515-01-P